DEPARTMENT OF ENERGY

Office of Energy Efficiency and Renewable Energy

10 CFR Part 430

[Docket No. EERE-2006-DET-0136]

RIN 1904-AB57

Energy Conservation Program for Consumer Products: Energy Conservation Standards for Battery Chargers and External Power Supplies

AGENCY: Office of Energy Efficiency and Renewable Energy, Department of Energy.

ACTION: Notice of public meeting and availability of two documents relating to DOE's plans for developing energy conservation standards for battery chargers and external power supplies.

SUMMARY: As required by the Energy Policy Act of 2005, the Department of Energy (DOE) will hold a “scoping workshop” (i.e., an informal public meeting) to discuss and receive comments on its plans for developing energy conservation standards for battery chargers and external power supplies. DOE encourages written comments on these subjects. To inform stakeholders and facilitate this process, DOE has prepared two documents, available at: http://www.eere.energy.gov/buildings/appliance_standards/residential/battery_external.html.

DATES: DOE will hold a public meeting on Wednesday, January 24, 2007, from 9 a.m. to 5 p.m. in Washington, DC. Any person requesting to speak at the public meeting should submit a request to speak before 4 p.m., Friday, January 12, 2007. DOE must receive a signed original and an electronic copy of statements to be given at the public meeting before 4 p.m., Friday, January 12, 2007. Written comments are welcome and should be submitted by Friday, February 16, 2007.

ADDRESSES: The public meeting will be held at the U.S. Department of Energy, Forrestal Building, Room 1E-245, 1000 Independence Avenue, SW., Washington, DC 20585-0121.

Stakeholders may submit comments, identified by docket number EERE-2006-DET-0136 and/or regulatory information number (RIN) 1904-AB57, by any of the following methods:

• Federal Rulemaking Portal: http://www.regulations.gov. Follow the instructions for submitting comments.

• E-mail: BCEPSTP@ee.doe.gov. Include docket number EERE-2006-DET-0136 and/or RIN 1904-AB57 in the subject line of the message.

• Mail: Ms. Brenda Edwards-Jones, U.S. Department of Energy, Building Technologies Program, Mailstop EE-2J, Framework Document for Battery Chargers and External Power Supplies, EERE-2006-DET-0136 and/or RIN 1904-AB57, 1000 Independence Avenue, SW., Washington, DC 20585-0121. Please submit one signed paper original.

• Hand Delivery/Courier: Ms. Brenda Edwards-Jones, U.S. Department of Energy, Building Technologies Program, Room 1J-018, 1000 Independence Avenue, SW., Washington, DC 20585-0121. Telephone: (202) 586-2945. Please submit one signed paper original.

Instructions: All submissions received must include the agency name and docket number or RIN for this rulemaking.

Docket: For access to the docket to read background documents, a copy of the transcript of the public meeting, or comments received, go to the U.S. Department of Energy, Forrestal Building, Room 1J-018 (Resource Room of the Building Technologies Program), 1000 Independence Avenue, SW., Washington, DC 20585-0121, (202) 586-9127, between 9 a.m. and 4 p.m., Monday through Friday, except Federal holidays. Please call Ms. Brenda Edwards-Jones at the above telephone number for additional information regarding visiting the Resource Room.

FOR FURTHER INFORMATION CONTACT: Victor Petrolati, U.S. Department of Energy, Office of Energy Efficiency and Renewable Energy, Building Technologies, EE-2J, 1000 Independence Avenue, SW., Washington, DC 20585-0121, (202) 586-4549. E-mail: victor.petrolati@ee.doe.gov. Francine B. Pinto, Esq. or Chris Calamita, Esq., U.S. Department of Energy, Office of General Counsel, GC-72, 1000 Independence Avenue, SW., Washington, DC 20585-0121, (202) 586-9507. E-mail: Francine.Pinto@hq.doe.gov or Christopher.Calamita@hq.doe.gov.

SUPPLEMENTARY INFORMATION: The Energy Policy and Conservation Act (EPCA), as amended established an energy conservation program for major household appliances. (42 U.S.C. 6291-6309) Section 135(c)(4) of the Energy Policy Act of 2005 (EPACT 2005), Pub. L. 109-58, amended section 325 of EPCA in part, by adding a new subsection 325(u). Section 325(u)(1)(E) directs DOE to determine whether energy conservation standards are warranted for battery chargers and external power supplies. (42 U.S.C. 6295(u)(1)(E)) As part of that process, EPCA requires that DOE hold a scoping workshop not later than February 8, 2007, to discuss and receive comments on plans for developing energy conservation standards for energy use of battery chargers and external power supplies. (42 U.S.C. 6295(u)(1)(D))

Section 135(a)(3) of EPACT 2005 amends section 321 of EPCA, by adding subsection 321(32), which defines the term “battery charger” as a “device that charges batteries for consumer products, including battery chargers embedded in other consumer products.” (42 U.S.C. 6291(32)) Similarly, section 135(a)(3) of EPACT 2005 amends section 321 of EPCA, by adding subsection 321(36), which defines the term “external power supply” as “an external power supply circuit that is used to convert household electric current into DC [direct current] or lower-voltage AC [alternating current] to operate a consumer product.” (42 U.S.C. 6291(36)) DOE incorporated these two definitions into 10 CFR part 430 in a final rule published on December 8, 2006. (71 FR 71340)

As required by EPCA, DOE has scheduled a scoping workshop to be held on January 24, 2007, to discuss plans for developing energy conservation standards for battery chargers and external power supplies. In addition, DOE prepared two documents that constitute supporting material for this scoping workshop. The first is called “Plans for Developing Energy Conservation Standards for Battery Chargers and External Power Supplies.” This document describes the procedural and analytical approach DOE anticipates using to evaluate whether energy conservation standards are warranted for battery chargers and external power supplies, and to develop such standards should the DOE make a positive determination. The second is called “The Current and Projected Future Market for Battery Chargers and External Power Supplies.” This document presents an initial market and technology assessment for battery chargers and external power supplies. It also discusses potential product classes and criteria DOE is considering in establishing product classes. Copies of both documents are available at: http://www.eere.energy.gov/buildings/appliance_standards/residential/battery_external.html.

DOE encourages those who wish to participate in the scoping workshop to obtain the two documents and be prepared to discuss their contents. Throughout each document, DOE identifies various issues on which it particularly seeks comments from stakeholders. These issues are summarized in an appendix to each document. As the two documents identify separate issues, one must read both documents in order to identify all of the issues on which DOE seeks comment. During the scoping workshop, DOE will address each item and provide an opportunity for discussion. However, stakeholders should not feel limited to comment on only those items identified by DOE. Stakeholders are welcome to comment on any part of either document. DOE is also interested in receiving viewpoints on all relevant issues that participants believe would affect DOE's action on energy conservation standards for these products.

The scoping workshop will be conducted in an informal, facilitated, conference style. A court reporter will be present to prepare a transcript of the meeting. There shall be no discussion of proprietary information, costs or prices, market shares, or other commercial matters regulated by the U.S. antitrust laws.

DOE welcomes all interested parties, whether or not they participate in the scoping workshop, to submit in writing by Friday, February 16, 2007, comments and information on the matters addressed in the two documents and on other matters relevant to consideration of energy conservation standards for battery chargers and external power supplies.

After the scoping workshop and the expiration of the period for submitting written comments, DOE will review the comments received and continue its work on determining whether energy conservation standards are warranted for battery chargers and external power supplies.

Anyone who would like to participate in the scoping workshop, receive meeting materials, or be added to the DOE mailing list to receive future notices and information regarding battery chargers and external power supplies should contact Ms. Brenda Edwards-Jones at (202) 586-2945, or visit DOE's homepage for battery chargers and external power supplies (http://www.eere.energy.gov/buildings/appliance_standards/residential/battery_external.html) and click on the “Register for E-mail Updates” link.

Issued in Washington, DC, on December 22, 2006.
Alexander A. Karsner,
Assistant Secretary, Energy Efficiency and Renewable Energy.

[FR Doc. E6-22437 Filed 12-28-06; 8:45 am]

BILLING CODE 6450-01-P